DEPARTMENT OF HOMELAND SECURITY

Coast Guard

[Docket No. USCG-2016-1085]

Certificate of Alternative Compliance for JT Marine Shipyard Hull #005

AGENCY: Coast Guard, DHS.

ACTION: Notice.

SUMMARY: The Coast Guard announces that a Certificate of Alternative Compliance was issued for JT Marine Shipyard Hull #005. We are issuing this notice because its publication is required by statute.

DATES: The Certificate of Alternative Compliance was issued on January 5, 2017.

FOR FURTHER INFORMATION CONTACT: If you have questions on this notice, call LCDR Patrick Drayer, Thirteenth Coast Guard District, Prevention Branch, U.S. Coast Guard, telephone 206-220-7275.

SUPPLEMENTARY INFORMATION:

Background and Purpose

A Certificate of Alternative Compliance, as allowed for under the provisions of the alternative compliance regulations in 33 CFR part 81, has been issued for the JT Marine Shipyard Hull #005. The vessel's primary purpose is as a work boat. The unique design of the vessel does not lend itself to full compliance with Rule 21(c) and Annex I, Part 3(b) of the International and Inland Navigational Rules.

The Commandant, U.S. Coast Guard, certifies that full compliance with the International and Inland Navigational Rules would interfere with the special functions and intent of the vessel and would not significantly enhance the safety of the vessel's operation. Placing the sidelights and sternlight in the required position would result in the high probability that the lights would be damaged or destroyed during vessel work boat operations.

The Certificate of Alternative Compliance authorizes the JT Marine Shipyard Hull #005 to deviate from the requirements set forth in Annex I of the International Navigational Rules and 33 CFR 84.05 of the Inland Navigational Rules by placing its sidelights 8 feet and 4 inches from the vessel's centerline and the sternlight on the backside of the rear navigation light mast.

This notice is issued under authority of 33 U.S.C. 1605(c) and 33 CFR 81.18.

Dated: January 5, 2017.
B.S. Gilda,
Captain, U.S. Coast Guard, Chief, Prevention Division, Thirteenth Coast Guard District.

[FR Doc. 2017-04984 Filed 3-13-17; 8:45 am]

BILLING CODE 9110-04-P